DEPARTMENT OF ENERGY

Federal Energy Regulatory Commission

[Docket No. ER01-1041-000]

El Dorado Energy, LLC; Notice of Filing

January 30, 2001.

Take notice that on January 24, 2001, El Dorado Energy, LLC. (El Dorado) tendered for filing pursuant to Section 205 of the Federal Power Act, 16 U.S.C. 824d, First Revised Sheet No. 2, superseding Original Sheet No. 2, to El Dorado's FERC Electric Tariff, Original Volume No. 1. The revised tariff sheet provides of the sale of electric energy, capacity, and ancillary services to San Diego Gas & Electric Company (SDG&E), an affiliate of El Dorado.

El Dorado states that its currently effective rate schedules do not provide for sales to SDG&E. It further states that SDG&E has, until recently, been required by the California Public Utilities Commission (CPUC) to purchase all of the power required for its bundled retail customers through the California Power Exchange Corporation (the PX). In September 2000, however, the CPUC authorized SDG&E to make bilateral purchases in order to increase its ability to hedge against volatile prices. According to El Dorado, CPUC rules provide that SDG&E's purchases from affiliates must be subject to open and competitive bidding.

The purpose of the instant filing, El Dorado states, is to enable El Dorado to make sales of energy and ancillary services to SDG&E on a bilateral basis under the requirement of open, competitive bidding contained in the CPUC's rules. In light of current simply circumstances in California, El Dorado asks for Commission action on its filing by January 29, 2001, and proposes an effective date for the tendered rate schedules of January 29, 2001.

El Dorado states that it has served a copy of its filing on the CPUC.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before February 8, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-2922 Filed 2-2-01; 8:45 am]

BILLING CODE 6717-01-M